DEPARTMENT OF STATE

[Public Notice 7962]

Bureau of Political-Military Affairs; Statutory Debarment Under the Arms Export Control Act and the International Traffic in Arms Regulations

ACTION: Notice.

SUMMARY: Notice is hereby given that the Department of State has imposed statutory debarment pursuant to § 127.7(c) of the International Traffic in Arms Regulations (“ITAR”) (22 CFR Parts 120 to 130) on persons convicted of violating, or conspiracy to violate, Section 38 of the Arms Export Control Act, as amended (“AECA”) (22 U.S.C. 2778). Further, a public notice was published in the Federal Register on Tuesday, November 15, 2011, listing persons statutorily debarred pursuant to the ITAR; this notice makes one correction to that notice.

DATES: Effective Date: The effective date is the date of this notice.

FOR FURTHER INFORMATION CONTACT: Lisa Aguirre, Director, Office of Defense Trade Controls Compliance, Bureau of Political-Military Affairs, Department of State (202) 632-2798.

SUPPLEMENTARY INFORMATION: Section 38(g)(4) of the AECA, 22 U.S.C. 2778(g)(4), prohibits the Department of State from issuing licenses or other approvals for the export of defense articles or defense services where the applicant, or any party to the export, has been convicted of violating certain statutes, including the AECA. The statute permits limited exceptions to be made on a case-by-case basis. In implementing this provision, Section 127.7 of the ITAR provides for “statutory debarment” of any person who has been convicted of violating or conspiring to violate the AECA. Persons subject to statutory debarment are prohibited from participating directly or indirectly in the export of defense articles, including technical data, or in the furnishing of defense services for which a license or other approval is required.

Statutory debarment is based solely upon conviction in a criminal proceeding, conducted by a United States Court, and as such the administrative debarment procedures outlined in Part 128 of the ITAR are not applicable.

The period for debarment will be determined by the Assistant Secretary for Political-Military Affairs based on the underlying nature of the violations, but will generally be for three years from the date of conviction. Export privileges may be reinstated only at the request of the debarred person followed by the necessary interagency consultations, after a thorough review of the circumstances surrounding the conviction, and a finding that appropriate steps have been taken to mitigate any law enforcement concerns, as required by Section 38(g)(4) of the AECA. Unless export privileges are reinstated, however, the person remains debarred.

Department of State policy permits debarred persons to apply to the Director, Office of Defense Trade Controls Compliance, for reinstatement beginning one year after the date of the debarment. Any decision to grant reinstatement can be made only after the statutory requirements of Section 38(g)(4) of the AECA have been satisfied.

Exceptions, also known as transaction exceptions, may be made to this debarment determination on a case-by-case basis at the discretion of the Assistant Secretary of State for Political-Military Affairs, after consulting with the appropriate U.S. agencies. However, such an exception would be granted only after a full review of all circumstances, paying particular attention to the following factors: whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement.

Pursuant to Section 38(g)(4) of the AECA and Section 127.7(c) of the ITAR, the following persons are statutorily debarred as of the date of this notice (Name; Date of Conviction; District; Case No.; Month/Year of Birth):

(1) Miguel Avendano-Reyna; April 30, 2012; U.S. District Court, Southern District of Texas; Case No. 7:11CR00999-S1-001; April, 1976.

(2) Davoud Baniameri (aka Davoud Baniamery, David Baniameri, David Baniamery); August 12, 2011; U.S. District Court, Northern District of Illinois; Case No. 09-CR-736-1; August, 1972.

(3) Donald V. Bernardo; November 16, 2011; U.S. District Court, Southern District of Florida; Case No. 1:10-60331-CR-SEITZ-1; November, 1938.

(4) Jorge Blanco-Castillo; September 20, 2011; U.S. District Court, Southern District of Texas; Case No. 1:11CR00178-001; November, 1969.

(5) Igor Bobel; May 11, 2012; U.S. District Court, Eastern District of Pennsylvania; Case No. 11-CR-00749-HB-1; February, 1968.

(6) Oscar Edwardo Cantu; March 21, 2012; U.S. District Court, Southern District of Texas; Case No. 7:11CR00686-S1-001; March, 1980.

(7) Henson Chua; November 8, 2011; U.S. District Court, Middle District of Florida; Case No. 8:11-CR-137-T-30AEP; January, 1964.

(8) Kue Sang Chun; November 15, 2011; U.S. District Court, Northern District of Ohio; Case No. 1:11CR00009-001; October, 1943.

(9) Luz Sylvia Cortez; November 28, 2011; U.S. District Court, Southern District of Texas; Case No. 7:10CR00061-002; April, 1976.

(10) Dan Tran Dang; April 16, 2012; U.S. District Court, Central District of California; Case No. SACR 08-00322-CJC; December, 1954.

(11) Santos Isidro de la Paz; May 11, 2012; U.S. District Court, Southern District of Texas; Case No. 7:11CR00396-007; September, 1988.

(12) Anna Fermanova; October 26, 2011; U.S. District Court, Eastern District of New York; Case No. CR11-00008(CBA); July, 1986.

(13) Galaxy Aviation Services; June 30, 2011; U.S. District Court, Middle District of Georgia; Case No. 5:10-CR-00058-004-MTT; N/A.

(14) Ruslan Gilchenko; February 4, 2011; U.S. District Court, District of Arizona; Case No. CR10-00233-001-PHX-FJM; October, 1976.

(15) Juan Victorian Gimenez; March 21, 2012; U.S. District Court, Southern District of Florida; Case No. 1:11-20669-CR-MARTINEZ-1; October, 1983.

(16) Enrique Gustavo Gonzalez; April 28, 2012; U.S. District Court, Southern District of Texas; Case No. 7:10CR01032-001; September, 1990.

(17) Issac Obed Gonzalez; July 11, 2011; U.S. District Court, Southern District of Texas; Case No. 7:10CR01171-001; October, 1989.

(18) Steven Neal Greenoe; January 10, 2012; U.S. District Court, Eastern District of North Carolina; Case No. 5:10-CR-277-1H; November, 1973.

(19) Stephen Glen Guerra; February 6, 2012; U.S. District Court, Western District of Texas; Case No. W-11-CR-200(04); February, 1979.

(20) Oscar Hernandez-Bravo (aka Oscar Bravo Hernandez); April 4, 2012; U.S. District Court, Southern District of Texas; Case No. 7:09CR00809-S1-001; February, 1971.

(21) Chou-Fu Ho; September 20, 2011; U.S. District Court, Southern District of California; Case No. 10CR2415 BTM; September, 1971.

(22) Rene Huerta, Jr.; August 16, 2011; U.S. District Court, Southern District of Texas; Case No. 1:10CR01396-001; October, 1972.

(23) Liem Duc Huynh (aka Duc Huynh); April 17, 2012; U.S. District Court, Central District of California; Case No. SACR 08-00322-CJC; September, 1959.

(24) Octavio Ibarra-Sanchez; February 22, 2012; U.S. District Court, Southern District of Texas; Case No. 7:11CR01518-001; March, 1984.

(25) Phillip Andro Jamison; November 8, 2011; U.S. District Court, Southern District of California; Case No. 10CR3618-H; February, 1980.

(26) Young Su Kim; August 19, 2011; U.S. District Court, District of Colorado; Case No. 11-cr-00171-LTB-01; August, 1953.

(27) Marc Knapp; September 13, 2011; U.S. District Court, District of Delaware; Case No. 10CR108-LPS; December, 1974.

(28) Connor H. Kraegel; August 24, 2011; U.S. District Court, District of Maryland; Case No. AW-8-11-CR-0273-001; October, 1990.

(29) Li Li (aka Lea Li); October 3, 2011; U.S. District Court, Eastern District of Virginia; Case No. 1:10CR00207-002; April, 1978.

(30) Mario Julian Martinez-Bernache; March 15, 2012; U.S. District Court, Southern District of Texas; Case No. 1:11CR00759-001; August, 1989.

(31) Scott Michael Miller; December 1, 2011; U.S. District Court, Southern District of New York; Case No. 06 Crim. 0566 (DC); August, 1958.

(32) Placido Molina, Jr.; March 2, 2012; U.S. District Court, Southern District of Texas; Case No. 1:11CR00530-001; September, 1984.

(33) Balraj Naidu; December 20, 2010; U.S. District Court, District of Maryland; Case No. CCB-1-08-CR-00091-002; February, 1967.

(34) Jamal Nehme; May 26, 2011; U.S. District Court, District of Delaware; Case No. 09-CR-74-01 GMS; April, 1963.

(35) Joseph Oldani; June 3, 2009; U.S. District Court, Southern District of West Virginia; Case No. 3:08-00287; August, 1987.

(36) Timothy Oldani; June 3, 2009; U.S. District Court, Southern District of West Virginia; Case No. 3:09-00010; November, 1984.

(37) John Dennis Tan Ong (aka Dennis Ong, John Tan Ong); December 19, 2011; U.S. District Court, Northern District of Georgia; Case No. 1:10-cr-352-JEC-01; November, 1973.

(38) Juan Narcizo Oyervides-Campos; November 21, 2011; U.S. District Court, Southern District of Texas; Case No. 7:11CR00338-001; July, 1990.

(39) Manuel Mario Pavon; January 13, 2012; U.S. District Court, Southern District of Texas; Case No. 7:11CR01434-S-001; June, 1991.

(40) Jerome Stuart Pendzich; October 12, 2011; U.S. District Court, Eastern District of Tennessee; Case No. 3:10-CR-168-001; March, 1977.

(41) Lee Roy Perez; December 13, 2011; U.S. District Court, Southern District of Texas; Case No. 7:11CR00389-001; July, 1987.

(42) Julio Alejandro Quirino; August 31, 2011; U.S. District Court, Southern District of Texas; Case No. 7:10CR01171-002; November, 1984.

(43) Ramadan Rama; July 21, 2011; U.S. District Court, Eastern District of North Carolina; Case No. 5:10-CR-397-1D; December, 1970.

(44) Martin Ramirez-Rodriguez (aka Julian Garcia-Penaloza, Alberto Moreno-Garza, Machin Aguilar-Gaona); November 9, 2010; U.S. District Court, Northern District of Florida; Case No. 5:10CR39-002-RS; October, 1983.

(45) Jose Arturo Ramon-Herrada; February 24, 2012; U.S. District Court, Southern District of Texas; Case No. 7:11CR00853-002; February, 1983.

(46) Felix Reyes; July 28, 2011; U.S. District Court, Southern District of Texas; Case No. 7:10CR01500-001; March, 1992.

(47) Jose Guadalupe Reyes-Martinez; November 21, 2011; U.S. District Court, Southern District of Texas; Case No. 7:11CR00396-010; September, 1982.

(48) Adrian Jesus Reyna; January 27, 2012; U.S. District Court, Western District of Texas; Case No. W-11-CR-200(01); July, 1986.

(49) Gerardo Domingo Rodriguez-Rivera; January 13, 2012; U.S. District Court, Southern District of Texas; Case No. 7:11CR01434-S-002; June, 1993.

(50) Nestor Omar Sauceda-Trevino; July 18, 2011; U.S. District Court, Southern District of Texas; Case No. 1:11CR00240-001; May, 1990.

(51) Hamid Seifi, (aka Hank Seifi); July 5, 2011; U.S. District Court, Middle District of Georgia; Case No. 5:10-CR-00058-003-MTT; March, 1963.

(52) Chan Hok Shek, (aka John Chan); September 27, 2011; U.S. District Court, District of Massachusetts; Case No. 1:08-CR-10317-001-DPW; December, 1953.

(53) Andrew Silcox; March 1, 2012; U.S. District Court, Western District of Texas; Case No. SA-11-CR-883(1)FB; March, 1958.

(54) Oscar Sorroza-Garcia; July 5, 2011; U.S. District Court, Southern District of California; Case No. 09CR3600-BEN; October, 1973.

(55) Staff Gasket Manufacturing Corp.; September 15, 2011; U.S. District Court, District of New Jersey; Case No. 2:CR11-0256-01; N/A.

(56) Swiss Technology, Inc.; November 15, 2011; U.S. District Court, District of New Jersey; Case No. 2:11-CR-473-JLL-01; N/A.

(57) Leonardo Talamantez; April 23, 2012; U.S. District Court, Western District of Texas; Case No. DR-11-CR-1354(2)-AM; July, 1986.

(58) The Parts Guys, LLC; November 3, 2011; U.S. District Court, Middle District of Georgia; Case No. 5:10-CR-00058-002-MTT; N/A.

(59) Michael Edward Todd; November 8, 2011; U.S. District Court, Middle District of Georgia; Case No. 5:10-CR-00058-001-MTT; June, 1980.

(60) Alfonso Torres; May 12, 2012; U.S. District Court, Southern District of Texas; Case No. 7:11CR00687-001; October, 1970.

(61) Hong Wei Xian, (aka Harry Zan); October 3, 2011; U.S. District Court, Eastern District of Virginia; Case No. 1:10CR00207-001; December, 1978.

(62) Lian Yang; October 27, 2011; U.S. District Court, Western District of Washington; Case No. 2:11CR00094TSZ-001; February, 1964.

(63) Nguessan Yao; December 15, 2011; U.S. District Court, Northern District of California; Case No. CR-10-00434-002; January, 1955.

(64) Edgar Daniel Zapata; April 30, 2012; U.S. District Court, Southern District of Texas; Case No. 7:11CR00396-001; August, 1980.

As noted above, at the end of the three-year period following the date of this notice, the above named persons/entities remain debarred unless export privileges are reinstated.

Debarred persons are generally ineligible to participate in activity regulated under the ITAR (see e.g., sections 120.1(c) and (d), and 127.11(a)). Also, under Section 127.1(c) of the ITAR, any person who has knowledge that another person is subject to debarment or is otherwise ineligible may not, without disclosure to and written approval from the Directorate of Defense Trade Controls, participate, directly or indirectly, in any export in which such ineligible person may benefit there from or have a direct or indirect interest therein.

Further, Federal Register document 2011-29470, published at 76 FR 70805, Tuesday, November 15, 2011, is corrected on page 70807, line 12 through line 15 to read as follows:

1. Andrew V. ODonnell; August 1, 2011; U.S. District Court, Northern District of Georgia; Case No. 1:10-CR-491-CAP; July, 1977.

That notice of statutory debarment incorrectly identified the debarred party as “Andrew V. O'Donnell” and the Month/Year of birth of the debarred party as “July, 1997.”

This notice is provided for purposes of making the public aware that the persons listed above are prohibited from participating directly or indirectly in activities regulated by the ITAR, including any brokering activities and in any export from or temporary import into the United States of defense articles, related technical data, or defense services in all situations covered by the ITAR. Specific case information may be obtained from the Office of the Clerk for the U.S. District Courts mentioned above and by citing the court case number where provided.

Dated: July 17, 2012.
Andrew J. Shapiro,
Assistant Secretary, Bureau of Political-Military Affairs, Department of State.

[FR Doc. 2012-18043 Filed 7-23-12; 8:45 am]

BILLING CODE 4710-25-P